DEPARTMENT OF HEALTH AND HUMAN SERVICES

Centers for Disease Control and Prevention

[60Day-04-08]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Evaluation of James A. Ferguson Emerging Infectious Diseases Fellowship Program—New—National Center for Infectious Diseases (NCID), Centers for Disease Control and Prevention (CDC).

CDC is particularly concerned with the racial, ethnic, and gender health disparities in the distribution of infectious diseases in the U.S. To help address the health and well-being of minority and underserved populations, CDC endeavors to train a racially and ethnically diverse public health workforce. Since 1989, the James A. Ferguson Emerging Infectious Disease Summer Fellowship Program, which is administered by the Minority Health Professions Foundation (MHPF), has been providing an 8-week program of educational and experiential opportunities for racial and ethnic minority medical, dental, pharmacy, veterinary, and public health graduate students. The Fellows are given opportunities to explore the wide range of public health career options available to them once their formal training is completed. As of summer 2003, 311 Fellows have completed the program.

The purpose of this study is to conduct a multi-facet evaluation of the Ferguson Fellowship Program. The data from this study will be used to develop planning and decision making initiatives regarding expansion and funding. The study aims to evaluate and measure the success of the program for the dual purposes of program expansion and encouraging other organizations to implement similar mechanisms to increase the presence of racial and ethnic minorities in public health.

Data for this study will be collected from relevant documents, telephone interviews with key stakeholders, and a mail survey of Ferguson Fellows.

CDC proposes to conduct the study to (1) Examine the views and perspectives of the constituents and their experiences with the Ferguson Fellowship Program and (2) assess the impact of the program on strengthening and diversifying the workforce and addressing racial and ethnic health disparities in the field of Public Health. To minimize respondent burden, the mail survey questionnaire will be carefully developed with appropriate guidance from CDC to develop survey items that are relevant and succinct.

Prior to fielding the surveys, an evaluation contractor with guidance from CDC, will select nine Fellows from the universe of 311 Fellows to participate in pilot interviews by telephone to determine the comprehensibility, appropriateness, and general usability of the survey instrument. These interviews will be conducted using verbal probing and concurrent “think-aloud” techniques in order to gain insight into the cognitive processes a respondent uses to answer survey questions. These interviews help minimize respondent burden by ensuring that each survey item is comprehensible and reliable.

The information obtained from this project will enable CDC to make important decisions regarding the program's future expansion and funding. Responses are voluntary. No proprietary items or questions of sensitive nature will be collected. There is no cost to respondents.

Form | Number of respondents | Number of responses per respondent | Average burden per response (in hours) | Total burden (in hours)
Survey | 311 | 1 | 30/60 | 156
Total |  |  |  | 156

Dated: November 19, 2003.
Laura Yerdon Martin,
Acting Director, Executive Secretariat, Centers for Disease and Prevention.

[FR Doc. 03-29523 Filed 11-25-03; 8:45 am]

BILLING CODE 4163-18-P